DEPARTMENT OF EDUCATION

Office of Postsecondary Education; Overview Information; National Resource Centers (NRC) Program for Foreign Language and Area Studies or Foreign Language and International Studies Program and Foreign Language and Area Studies (FLAS) Fellowships Program; Notice Inviting Applications for New Awards for Fiscal Year (FY) 2006

Catalog of Federal Domestic Assistance (CFDA) Number: 84.015A and 84.015B

Dates: Applications Available: October 14, 2005.

Deadline for Transmittal of Applications: See the chart listed under section IV. Application and Submission Information, 3. Submission Dates and Times (chart).

Deadline for Intergovernmental Review: See chart.

Eligible Applicants: (1) Institutions of higher education; and (2) Consortia of institutions of higher education that meet the eligibility requirements in the regulations for the NRC and FLAS programs.

Estimated Available Funds: The Administration has requested $28,950,000 for the NRC program and $29,129,500 for the FLAS program for FY 2006. The actual level of funding, if any, depends on final congressional action. However, we are inviting applications to allow enough time to complete the grant process, if Congress appropriates funds for these programs.

Estimated Range of Awards: $192,000-$349,000 per year for the NRC program and $39,000-$377,000 per year for the FLAS program.

Estimated Average Size of Awards: $241,251 per year for the NRC program and $234,915 per year for the FLAS program.

Estimated Number of Awards: 120 NRC awards and 124 FLAS awards. We estimate that the 124 FLAS awards will yield 926 academic year fellowships and 635 summer fellowships.

Note: Information concerning the FLAS program subsistence allowance and institutional payment is provided elsewhere in this notice in section II Award Information.

Note: The Department is not bound by any estimates in this notice.

Project Period: Up to 48 months.

Full Text of Announcement

I. Funding Opportunity Description

Purpose of Program: The NRC program makes awards to institutions of higher education or consortia of these institutions for establishing or strengthening nationally recognized foreign language and area or international studies centers or programs. NRC awards are used to support undergraduate centers or comprehensive centers, which include undergraduate, graduate and professional school components.

The FLAS program provides allocations of fellowships to institutions of higher education or consortia of these institutions to assist meritorious students undergoing graduate training in modern foreign languages and related area or international studies.

Priorities: In accordance with 34 CFR 75.105(b)(2)(ii), these priorities are from the regulations for the NRC program (34 CFR 656.23(a)(4)) and for the FLAS program (34 CFR 657.22(a)(7)).

NRC Program Absolute Priority: For FY 2006 this priority is an absolute priority. Under 34 CFR 75.105(c)(3) we consider only applications that meet this priority.

This priority is:

Projects that include teacher training activities on the language, languages, area studies, or thematic focus of the center.

NRC Program Competitive Preference Priority: For FY 2006 this priority is a competitive preference priority. Under 34 CFR 75.105(c)(2)(i) we award up to an additional ten points to an application, depending on the extent to which the application meets this priority.

This priority is:

Activities designed to demonstrate the quality of the center's or program's language instruction through the measurement of student proficiency in the less and least commonly taught languages.

Within the absolute priority and competitive preference priority, we are particularly interested in applications that address the following invitational priorities.

NRC Program Invitational Priorities: For FY 2006 these priorities are invitational priorities. Under 34 CFR 75.105(c)(1) we do not give an application that meets these invitational priorities a competitive or absolute preference over other applications.

These priorities are:

NRC Invitational Priority 1

Activities designed to promote undergraduate language learning through two or more continuous years in the less or least commonly taught languages.

NRC Invitational Priority 2

Activities designed to increase the number of specialists trained in areas that are vital to United States national security, such as Islamic societies.

NRC Invitational Priority 3

Linkages with schools of education designed to improve teacher training in foreign languages or area or international studies with an emphasis on the less commonly taught languages and areas of the world where those languages are spoken.

NRC Invitational Priority 4

Collaboration with Title VI Language Resource Centers, Centers for International Business Education, and American Overseas Research Centers, with the objective of increasing the nation's capacity to train and produce Americans with advanced proficiency of the less and least commonly taught languages, along with an understanding of the societies in which those languages are spoken.

NRC Invitational Priority 5

Activities that expand and enhance outreach to K-12 constituencies.

FLAS Program Competitive Preference Priorities: For FY 2006 these priorities are competitive preference priorities. Under 34 CFR 75.105(c)(2)(i) we award up to an additional ten points to an application, depending on the extent to which the application meets these priorities.

These priorities are:

FLAS Competitive Preference Priority 1

The Secretary will award up to five additional points to eligible applicants that plan to offer fellowships in the less and least commonly taught languages to students who are pursuing advanced level language proficiency.

FLAS Competitive Preference Priority 2

The Secretary will award up to five additional points to eligible applicants that plan to offer fellowships to master's degree students who are more likely to pursue government service or enter a professional field.

Program Authority: 20 U.S.C. 1122.

Applicable Regulations: (a) The Education Department General Administrative Regulations (EDGAR) in 34 CFR parts 74, 75, 77, 79, 82, 84, 85, 86, 97, 98 and 99. (b) The General Provisions for International Education Programs in 34 CFR part 655. (c) The regulations for the NRC program in 34 CFR part 656. (d) The regulations for the FLAS program in 34 CFR part 657.

Note: The regulations in 34 CFR part 79 apply to all applications except federally recognized Indian tribes.

II. Award Information

Type of Award: Discretionary grants.

Estimated Available Funds: The Administration has requested $28,950,000 for the NRC program and $29,129,500 for the FLAS program for FY 2006. The actual level of funding, if any, depends on final congressional action. However, we are inviting applications to allow enough time to complete the grant process, if Congress appropriates funds for these programs.

Estimated Range of Awards: $192,000-$349,000 per year for the NRC program and $39,000-$377,000 per year for the FLAS program.

Estimated Average Size of Awards: $241,251 per year for the NRC program and $234,915 per year for the FLAS program.

Estimated FLAS Program Subsistence Allowance: The subsistence allowance for an academic year 2006-2007 fellowship is $15,000, and the subsistence allowance for a summer 2007 fellowship is $2,500.

Estimated FLAS Program Institutional Payment: The institutional payment in lieu of tuition for an academic year 2006-2007 fellowship is $12,000, and the institutional payment in lieu of tuition for a summer 2007 fellowship is $4,000.

Estimated Number of Awards: 120 NRC awards and 124 FLAS awards. We estimate that the 124 FLAS awards will yield 926 academic year fellowships and 635 summer fellowships.

Note: The Department is not bound by any estimates in this notice.

Project Period: Up to 48 months.

III. Eligibility Information

1. Eligible Applicants: (1) Institutions of higher education; and (2) Consortia of institutions of higher education that meet the eligibility requirements in the program regulations for the NRC and FLAS programs.

2. Cost Sharing or Matching: These programs do not involve cost sharing or matching.

IV. Application and Submission Information

1. Address to Request Application Package: You may obtain an application package via the Internet by downloading the package from the program Web site: http://www.ed.gov/HEP/iegps.

If you do not have access to the Internet, you may contact Carla White, International Education Programs Service, U.S. Department of Education, at (202) 502-7631 to request a paper copy of the package.

If you use a telecommunications device for the deaf (TDD), you may call the Federal Relay Service (FRS) at 1-800-877-8339.

Individuals with disabilities may obtain a copy of the application package in an alternative format (e.g., Braille, large print, audiotape, or computer diskette) by contacting the program contact person listed in this section.

2. Content and Form of Application Submission: Requirements concerning the content of an application, together with the forms you must submit, are in the application package for these programs.

Page Limit: The application narrative is where you, the applicant, address the selection criteria that reviewers use to evaluate your application. You must limit the narrative to the equivalent of no more than 40 pages for a single institution application or the equivalent of no more than 50 pages for a consortium application, using the following standards:

A “page” is 8.5″ x 11″, on one side only, with 1″ margins at the top, bottom, and both sides.

• Double space (no more than three lines per vertical inch) all text in the application narrative, including titles, headings, footnotes, quotations, references, and captions. However, you may single space all text in charts, tables, figures and graphs.

• Use a font that is either 12-point or larger or no smaller than 10 pitch (characters per inch). However, you may use a 10-point font in charts, tables, figures, and graphs.

• Use one of the following fonts: Times New Roman, Courier, Courier New or Arial. Applications submitted in any other font (including Times Roman, Arial Narrow) will be rejected.

Section C of the application package provides instructions about the application narrative. The narrative must include your complete response to the selection criteria.

The page limit does not apply to the cover sheet; the budget section, including the narrative budget justification; the assurances and certifications; the one-page abstract; or the appendices.

We will reject your application if—

• You apply these standards and exceed the page limit; or

• You apply other standards and exceed the equivalent of the page limit.

3. Submission Dates and Times:

Applications Available: October 14, 2005.

Deadline for Transmittal of Applications: In light of the damage caused by Hurricanes Katrina and Rita we are establishing two separate deadlines for the submission of applications for grants under this competition to permit potential applicants affected by Hurricanes Katrina and/or Rita additional time to submit their applications. We are establishing a General Deadline for all applicants, and an Extended Deadline for potential applicants who have been affected by Hurricanes Katrina and/or Rita and are located in Louisiana, Texas, Alabama, Mississippi, and Florida. Specifically, the Extended Deadline applies only to: (1) institutions of higher education, SEAs, LEAs, non-profit organizations and other public or private organization applicants that are located in a federally-declared disaster area as determined by the Federal Emergency Management Agency (FEMA) (see http://www.fema.gov/news/disasters.fema) and that were adversely affected by Hurricanes Katrina and/or Rita, and (2) individual applicants who reside or resided, on the disaster declaration date, in a federally-declared disaster area as determined by FEMA (see http://www.fema.gov/news/disasters.fema) and were adversely affected by Hurricanes Katrina and/or Rita. These applicants must provide a certification in their application that they meet the criteria for submitting an application on the Extended Deadline, and be prepared to provide appropriate supporting documentation, if requested. If the applicant is submitting the application electronically, submission of the application serves as the applicant's attestation that they meet the criteria for submitting an application on the Extended Deadline.

The following chart provides the applicable deadlines for the submission of applications. If this program is subject to Executive Order 12372, the relevant deadline for intergovernmental review is also indicated in the chart.

| Transmittal of applications | Intergovernmental review
General Deadline: | 11/14/05 | 1/13/06
Extended Deadline: | 12/1/05 | 2/1/06

Applications for grants under this competition must be submitted by mail or hand delivery. For information (including dates and times) about how to submit your application by mail or hand delivery, please refer to section IV. 6. Other Submission Requirements in this notice.

We do not consider an application that does not comply with the deadline requirements.

Deadline for Intergovernmental Review: See chart.

4. Intergovernmental Review: These programs are subject to Executive Order 12372 and the regulations in 34 CFR part 79. Information about Intergovernmental Review of Federal Programs under Executive Order 12372 is in the application package for these programs.

5. Funding Restrictions: We reference regulations outlining funding restrictions in the Applicable Regulations section of this notice.

6. Other Submission Requirements: Applications for grants under these programs must be submitted in paper format by mail or hand delivery.

a. Submission of Applications by Mail.

If you submit your application by mail (through the U.S. Postal Service or a commercial carrier, you must mail the original and two copies of your application, on or before the application deadline date, to the Department at the applicable following address:

By mail through the U.S. Postal Service: U.S. Department of Education, Application Control Center, Attention: (CFDA Number 84.015A and 84.015B), 400 Maryland Avenue, SW., Washington, DC 20202-4260; or

By mail through a commercial carrier: U.S. Department of Education, Application Control Center—Stop 4260, Attention: (CFDA Number 84.015A and 84.015B), 7100 Old Landover Road, Landover, MD 20785-1506.

Regardless of the address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

b. Submission of Applications by Hand Delivery.

If you submit your application by hand delivery, you (or a courier service) must deliver the original and two copies of your application, by hand, on or before the application deadline date, to the Department at the following address: U.S. Department of Education, Application Control Center, Attention: (CFDA Number 84.015A and 84.015B), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgement to you. If you do not receive the grant application receipt acknowledgement within 15 business days from the application deadline date, you should call the U.S. Department of Education Application Control Center at (202) 245-6288.

V. Application Review Information

Selection Criteria: The selection criteria for a comprehensive center under the NRC program are from 34 CFR 656.21. In general, the Secretary awards up to 155 possible points for these criteria. However, if the criterion from section 656.21(j) is used, the Secretary awards up to 165 possible points. The maximum possible points for each criterion are shown in parentheses.

(a) Program planning and budget. (20 points) The Secretary reviews each application to determine—(1) The extent to which the activities for which the applicant seeks funding are of high quality and directly related to the purpose of the National Resource Centers Program (5 points); (2) The extent to which the applicant provides a development plan or timeline demonstrating how the proposed activities will contribute to a strengthened program and whether the applicant uses its resources and personnel effectively to achieve the proposed objectives (5 points); (3) The extent to which the costs of the proposed activities are reasonable in relation to the objectives of the program (5 points); and (4) The long-term impact of the proposed activities on the institution's undergraduate, graduate, and professional training programs (5 points).

(b) Quality of staff resources. (15 points) The Secretary reviews each application to determine—(1) The extent to which teaching faculty and other staff are qualified for the current and proposed Center activities and training programs, are provided professional development opportunities (including overseas experience), and participate in teaching, supervising, and advising students (5 points); (2) The adequacy of Center staffing and oversight arrangements, including outreach and administration and the extent to which faculty from a variety of departments, professional schools, and the library are involved (5 points); and (3) The extent to which the applicant, as part of its nondiscriminatory employment practices, encourages applications for employment from persons who are members of groups that have been traditionally underrepresented, such as members of racial or ethnic minority groups, women, persons with disabilities, and the elderly (5 points).

(c) Impact and evaluation. (25 points) The Secretary reviews each application to determine—(1) The extent to which the Center's activities and training programs have a significant impact on the university, community, region, and the Nation as shown through indices such as enrollments, graduate placement data, participation rates for events, and usage of Center resources; and the extent to which the applicant supplies a clear description of how the applicant will provide equal access and treatment of eligible project participants who are members of groups that have been traditionally underrepresented, such as members of racial or ethnic minority groups, women, persons with disabilities, and the elderly (10 points); and (2) The extent to which the applicant provides an evaluation plan that is comprehensive and objective and that will produce quantifiable, outcome-measure-oriented data; and the extent to which recent evaluations have been used to improve the applicant's program (15 points).

(d) Commitment to the subject area on which the Center focuses. (10 points) The Secretary reviews each application to determine the extent to which the institution provides financial and other support to the operation of the Center, teaching staff for the Center's subject area, library resources, linkages with institutions abroad, outreach activities, and qualified students in fields related to the Center.

(e) Strength of library. (15 points) The Secretary reviews each application to determine—(1) The strength of the institution's library holdings (both print and non-print, English and foreign language) in the subject area and at the educational levels (graduate, professional, undergraduate) on which the Center focuses; and the extent to which the institution provides financial support for the acquisition of library materials and for library staff in the subject area of the Center (10 points); and (2) The extent to which research materials at other institutions are available to students through cooperative arrangements with other libraries or on-line databases and the extent to which teachers, students, and faculty from other institutions are able to access the library's holdings (5 points).

(f) Quality of the Center's non-language instructional program. (20 points) The Secretary reviews each application to determine—(1) The quality and extent of the Center's course offerings in a variety of disciplines, including the extent to which courses in the Center's subject matter are available in the institution's professional schools (5 points); (2) The extent to which the Center offers depth of specialized course coverage in one or more disciplines of the Center's subject area (5 points); (3) The extent to which the institution employs a sufficient number of teaching faculty to enable the Center to carry out its purposes and the extent to which instructional assistants are provided with pedagogy training; and (4) The extent to which interdisciplinary courses are offered for undergraduate and graduate students. The Secretary is assigning a total of ten points to factors (3) and (4).

(g) Quality of the Center's language instructional program. (20 points) The Secretary reviews each application to determine—(1) The extent to which the Center provides instruction in the languages of the Center's subject area and the extent to which students enroll in the study of the languages of the subject area through programs or instruction offered by the Center or other providers (5 points); (2) The extent to which the Center provides three or more levels of language training and the extent to which courses in disciplines other than language, linguistics, and literature are offered in appropriate foreign languages (5 points); (3) Whether sufficient numbers of language faculty are available to teach the languages and levels of instruction described in the application and the extent to which language teaching staff (including faculty and instructional assistants) have been exposed to current language pedagogy training appropriate for performance-based teaching (5 points); and (4) The quality of the language program as measured by the performance-based instruction being used or developed, the adequacy of resources for language teaching and practice, and language proficiency requirements (5 points).

(h) Quality of curriculum design. (10 points) The Secretary reviews each application to determine—(1) The extent to which the Center's curriculum has incorporated undergraduate instruction in the applicant's area or topic of specialization into baccalaureate degree programs (for example, major, minor, or certificate programs) and the extent to which these programs and their requirements (including language requirements) are appropriate for a Center in this subject area and will result in an undergraduate training program of high quality (5 points); (2) The extent to which the Center's curriculum provides training options for graduate students from a variety of disciplines and professional fields and the extent to which these programs and their requirements (including language requirements) are appropriate for a Center in this subject area and result in graduate training programs of high quality; and (3) The extent to which the Center provides academic and career advising services for students; the extent to which the Center has established formal arrangements for students to conduct research or study abroad and the extent to which these arrangements are used; and the extent to which the institution facilitates student access to other institutions' study abroad and summer language programs. The Secretary is assigning a total of five points to factors (2) and (3).

(i) Outreach activities. (20 points) The Secretary reviews each application to determine the extent to which the Center demonstrates a significant and measurable regional and national impact of, and faculty and professional school involvement in, domestic outreach activities that involve—(1) Elementary and secondary schools (10 points); (2) Postsecondary institutions (5 points); and (3) Business, media, and the general public (5 points).

(j) Degree to which priorities are served (10 points): If, under the provisions of Sec. 656.23, the Secretary establishes competitive priorities for Centers, the Secretary considers the degree to which these priorities are being served.

The selection criteria for an undergraduate center under the NRC program are from 34 CFR 656.22. In general, the Secretary awards up to 155 possible points for these criteria. However, if the criterion from section 656.22(j) is used, the Secretary awards up to 165 possible points. The maximum possible points for each criterion are shown in parentheses.

(a) Program planning and budget. (20 points) The Secretary reviews each application to determine—(1) The extent to which the activities for which the applicant seeks funding are of high quality and directly related to the purpose of the National Resource Centers Program (5 points); (2) The extent to which the applicant provides a development plan or timeline demonstrating how the proposed activities will contribute to a strengthened program and whether the applicant uses its resources and personnel effectively to achieve the proposed objectives (5 points); (3) The extent to which the costs of the proposed activities are reasonable in relation to the objectives of the program (5 points); and (4) The long-term impact of the proposed activities on the institution's undergraduate training program (5 points).

(b) Quality of staff resources. (15 points) The Secretary reviews each application to determine—(1) The extent to which teaching faculty and other staff are qualified for the current and proposed Center activities and training programs, are provided professional development opportunities (including overseas experience), and participate in teaching, supervising, and advising students (5 points); (2) The adequacy of Center staffing and oversight arrangements, including outreach and administration and the extent to which faculty from a variety of departments, professional schools, and the library are involved (5 points); and (3) The extent to which the applicant, as part of its nondiscriminatory employment practices, encourages applications for employment from persons who are members of groups that have been traditionally underrepresented, such as members of racial or ethnic minority groups, women, persons with disabilities, and the elderly (5 points).

(c) Impact and evaluation. (25 points) The Secretary reviews each application to determine—(1) The extent to which the Center's activities and training programs have a significant impact on the university, community, region, and the Nation as shown through indices such as enrollments, graduate placement data, participation rates for events, and usage of Center resources; the extent to which students matriculate into advanced language and area or international studies programs or related professional programs; and the extent to which the applicant supplies a clear description of how the applicant will provide equal access and treatment of eligible project participants who are members of groups that have been traditionally underrepresented, such as members of racial or ethnic minority groups, women, persons with disabilities, and the elderly (10 points); and (2) The extent to which the applicant provides an evaluation plan that is comprehensive and objective and that will produce quantifiable, outcome-measure-oriented data; and the extent to which recent evaluations have been used to improve the applicant's program (15 points).

(d) Commitment to the subject area on which the Center focuses. (10 points) The Secretary reviews each application to determine the extent to which the institution provides financial and other support to the operation of the Center, teaching staff for the Center's subject area, library resources, linkages with institutions abroad, outreach activities, and qualified students in fields related to the Center.

(e) Strength of library. (15 points) The Secretary reviews each application to determine—(1) The strength of the institution's library holdings (both print and non-print, English and foreign language) in the subject area and at the educational levels (graduate, professional, undergraduate) on which the Center focuses; and the extent to which the institution provides financial support for the acquisition of library materials and for library staff in the subject area of the Center (10 points); and (2) The extent to which research materials at other institutions are available to students through cooperative arrangements with other libraries or on-line databases and the extent to which teachers, students, and faculty from other institutions are able to access the library's holdings (5 points).

(f) Quality of the Center's non-language instructional program. (20 points) The Secretary reviews each application to determine—(1) The quality and extent of the Center's course offerings in a variety of disciplines (5 points); (2) The extent to which the Center offers depth of specialized course coverage in one or more disciplines of the Center's subject area (5 points); (3) The extent to which the institution employs a sufficient number of teaching faculty to enable the Center to carry out its purposes and the extent to which instructional assistants are provided with pedagogy training; and (4) The extent to which interdisciplinary courses are offered for undergraduate students. The Secretary is assigning a total of ten points to factors (3) and (4).

(g) Quality of the Center's language instructional program. (20 points) The Secretary reviews each application to determine— (1) The extent to which the Center provides instruction in the languages of the Center's subject area and the extent to which students enroll in the study of the languages of the subject area through programs offered by the Center or other providers (5 points); (2) The extent to which the Center provides three or more levels of language training and the extent to which courses in disciplines other than language, linguistics, and literature are offered in appropriate foreign languages (5 points); (3) Whether sufficient numbers of language faculty are available to teach the languages and levels of instruction described in the application and the extent to which language teaching staff (including faculty and instructional assistants) have been exposed to current language pedagogy training appropriate for performance-based teaching (5 points); and (4) The quality of the language program as measured by the performance-based instruction being used or developed, the adequacy of resources for language teaching and practice, and language proficiency requirements (5 points).

(h) Quality of curriculum design. (10 points) The Secretary reviews each application to determine—(1) The extent to which the Center's curriculum has incorporated undergraduate instruction in the applicant's area or topic of specialization into baccalaureate degree programs (for example, major, minor, or certificate programs) and the extent to which these programs and their requirements (including language requirements) are appropriate for a Center in this subject area and will result in an undergraduate training program of high quality (5 points); and (2) The extent to which the Center provides academic and career advising services for students; the extent to which the Center has established formal arrangements for students to conduct research or study abroad and the extent to which these arrangements are used; and the extent to which the institution facilitates student access to other institutions' study abroad and summer language programs (5 points).

(i) Outreach activities. (20 points) The Secretary reviews each application to determine the extent to which the Center demonstrates a significant and measurable regional and national impact of, and faculty and professional school involvement in, domestic outreach activities that involve (1) Elementary and secondary schools (10 points); (2) Postsecondary institutions (5 points); and (3) Business, media and the general public (5 points).

(j) Degree to which priorities are served (10 points): If, under the provisions of Sec. 656.23, the Secretary establishes competitive priorities for Centers, the Secretary considers the degree to which these priorities are being served.

The selection criteria used in selecting institutions for an allocation of fellowships under the FLAS program are from 34 CFR 657.21. The Secretary evaluates an application for an allocation of fellowships on the basis of the quality of the applicant's Center or program. In general, the Secretary awards up to 140 possible points for these criteria. However, if priority criteria are used, the Secretary awards up to 150 possible points. The maximum possible points for each criterion are shown in parentheses.

(a) Foreign language and area studies fellowships awardee selection procedures. (15 points) The Secretary reviews each application to determine whether the selection plan is of high quality, showing how awards will be advertised, how students apply, what selection criteria are used, who selects the fellows, when each step will take place, and how the process will result in awards being made to correspond to any announced priorities.

(b) Quality of staff resources. (15 points) The Secretary reviews each application to determine—(1) The extent to which teaching faculty and other staff are qualified for the current and proposed activities and training programs, are provided professional development opportunities (including overseas experience), and participate in teaching, supervising, and advising students (5 points); (2) The adequacy of applicant staffing and oversight arrangements and the extent to which faculty from a variety of departments, professional schools, and the library are involved (5 points); and (3) The extent to which the applicant, as part of its nondiscriminatory employment practices, encourages applications for employment from persons who are members of groups that have been traditionally underrepresented, such as members of racial or ethnic minority groups, women, persons with disabilities, and the elderly (5 points).

(c) Impact and evaluation. (25 points) The Secretary reviews each application to determine—(1) The extent to which the applicant's activities and training programs have contributed to an improved supply of specialists on the program's subject as shown through indices such as graduate enrollments and placement data; and the extent to which the applicant supplies a clear description of how the applicant will provide equal access and treatment of eligible project participants who are members of groups that have been traditionally underrepresented, such as members of racial or ethnic minority groups, women, persons with disabilities, and the elderly (20 points); and (2) The extent to which the applicant provides an evaluation plan that is comprehensive and objective and that will produce quantifiable, outcome-measure-oriented data; and the extent to which recent evaluations have been used to improve the applicant's program (5 points).

(d) Commitment to the subject area on which the applicant or program focuses. (10 points) The Secretary reviews each application to determine—(1) The extent to which the institution provides financial and other support to the operation of the applicant, teaching staff for the applicant's subject area, library resources, and linkages with institutions abroad (5 points); and (2) The extent to which the institution provides financial support to graduate students in fields related to the applicant's teaching program (5 points).

(e) Strength of library. (15 points) The Secretary reviews each application to determine—(1) The strength of the institution's library holdings (both print and non-print, English and foreign language) for graduate students; and the extent to which the institution provides financial support for the acquisition of library materials and for library staff in the subject area of the applicant (10 points); and (2) The extent to which research materials at other institutions are available to students through cooperative arrangements with other libraries or on-line databases (5 points).

(f) Quality of the applicant's non-language instructional program. (20 points) The Secretary reviews each application to determine—(1) The quality and extent of the applicant's course offerings in a variety of disciplines, including the extent to which courses in the applicant's subject matter are available in the institution's professional schools (10 points); (2) The extent to which the applicant offers depth of specialized course coverage in one or more disciplines on the applicant's subject area (5 points); (3) The extent to which the institution employs a sufficient number of teaching faculty to enable the applicant to carry out its purposes and the extent to which instructional assistants are provided with pedagogy training; and (4) The extent to which interdisciplinary courses are offered for graduate students. The Secretary is assigning a total of five points to factors (3) and (4).

(g) Quality of the applicant's language instructional program. (20 points) The Secretary reviews each application to determine—(1) The extent to which the applicant provides instruction in the languages of the applicant's subject area and the extent to which students enroll in the study of the languages of the subject area through programs or instruction offered by the applicant or other providers (5 points); (2) The extent to which the applicant provides three or more levels of language training and the extent to which courses in disciplines other than language, linguistics, and literature are offered in appropriate foreign languages (5 points); (3) Whether sufficient numbers of language faculty are available to teach the languages and levels of instruction described in the application and the extent to which language teaching staff (including faculty and instructional assistants) have been exposed to current language pedagogy training appropriate for performance-based teaching (5 points); and (4) The quality of the language program as measured by the performance-based instruction being used or developed, the adequacy of resources for language teaching and practice, and language proficiency requirements (5 points).

(h) Quality of curriculum design. (20 points) The Secretary reviews each application to determine—(1) The extent to which the applicant's curriculum provides training options for graduate students from a variety of disciplines and professional fields and the extent to which these programs and their requirements (including language requirements) are appropriate for an applicant in this subject area and result in graduate training programs of high quality (10 points); (2) The extent to which the applicant provides academic and career advising services for students (5 points); and (3) The extent to which the applicant has established formal arrangements for students to conduct research or study abroad and the extent to which these arrangements are used; and the extent to which the institution facilitates student access to other institutions' study abroad and summer language programs (5 points).

(i) Priorities (10 points): If one or more competitive priorities have been established under section 657.22, the Secretary reviews each application for information that shows the extent to which the Center or program meets these priorities.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118. For the NRC and FLAS programs, final and annual reports must be submitted into the Evaluation, Exchange, Language, International, and Area Studies online reporting system.

4. Performance Measures: Under the Government Performance and Results Act of 1993 (GPRA), the objective for the NRC and FLAS programs is to support the maintenance of a U.S. higher education system able to produce experts in less commonly taught languages and area studies who are capable of contributing to the needs of the U.S. Government, academic and business institutions.

The Department will use the following measures to evaluate its success in meeting this objective.

NRC Performance Measure 1: Percentage of National Resource Center Ph.D. graduates who are employed in higher education, government, or national security.

NRC Performance Measure 2: Percentage of critical languages taught as reflected in the list of critical languages referenced in title VI of the Higher Education Act of 1965, as amended.

FLAS Performance Measure 1: The average competency score of Foreign Language and Area Studies Fellowships recipients at the end of one full year of instruction (post test) minus the average competency score at the beginning of the year (pre test).

VII. Agency Contact

FOR FURTHER INFORMATION CONTACT: Carla White, International Education Programs Service, U.S. Department of Education, 1990 K Street, NW., suite 6000, Washington, DC 20006-8521. Telephone: (202) 502-7631 or via Internet: OPE_NRC-FLAS@ed.gov.

If you use a telecommunications device for the deaf (TDD), you may call the Federal Relay Service (FRS) at 1-800-877-8339.

Individuals with disabilities may obtain this document in an alternative format (e.g., Braille, large print, audiotape, or computer diskette) on request to the program contact persons listed in this section.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC area at (202) 512-1530.

Note: The official version of this document is the document published in the Federal Register. Free Internet access to the official edition of the Federal Register and the Code of Federal Regulations is available on GPO Access at: www.gpoaccess.gov/nara/index.html.

Dated: October 11, 2005.
Sally L. Stroup,
Assistant Secretary for Postsecondary Education.

[FR Doc. 05-20625 Filed 10-13-05; 8:45 am]

BILLING CODE 4000-01-P